ENVIRONMENTAL PROTECTION AGENCY

40 CFR Part 52

[EPA-R07-OAR-2006-0122; FRL-8050-4]

Approval and Promulgation of Implementation Plans; Iowa; Prevention of Significant Deterioration (PSD)

AGENCY: Environmental Protection Agency (EPA).

ACTION: Direct final rule.

SUMMARY: EPA is making a revision to the Code of Federal Regulations (CFR) for the purpose of giving the Iowa Department of Natural Resources (IDNR) full regulatory responsibility for EPA-issued Prevention of Significant Deterioration (PSD) permits. IDNR demonstrated state legislative authority to take responsibility for the permits, and demonstrated that resources are available to accomplish full regulatory responsibility.

DATES: This direct final rule will be effective May 30, 2006, without further notice, unless EPA receives adverse comment by May 1, 2006. If adverse comment is received, EPA will publish a timely withdrawal of the direct final rule in the Federal Register informing the public that the rule will not take effect.

ADDRESSES: Submit your comments, identified by Docket ID No. EPA-R07-OAR-2006-0122, by one of the following methods:

1. http://www.regulations.gov. Follow the on-line instructions for submitting comments.

2. E-mail: Hamilton.heather@epa.gov.

3. Mail: Heather Hamilton, Environmental Protection Agency, Air Planning and Development Branch, 901 North 5th Street, Kansas City, Kansas 66101.

4. Hand Delivery or Courier: Deliver your comments to Heather Hamilton, Environmental Protection Agency, Air Planning and Development Branch, 901 North 5th Street, Kansas City, Kansas 66101.

Instructions: Direct your comments to Docket ID No. EPA-R07-OAR-2006-0122. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Environmental Protection Agency, Air Planning and Development Branch, 901 North 5th Street, Kansas City, Kansas 66101. The Regional Office's official hours of business are Monday through Friday, 8 a.m. to 4:30 p.m. excluding Federal holidays. The interested persons wanting to examine these documents should make an appointment with the office at least 24 hours in advance.

FOR FURTHER INFORMATION CONTACT: Heather Hamilton at (913) 551-7039, or by e-mail at Hamilton.heather@epa.gov.

SUPPLEMENTARY INFORMATION: Throughout this document whenever “we,” “us,” or “our” is used, we mean EPA. This section provides additional information by addressing the following questions:

What is Being Addressed in This Document?

What Action is EPA Taking?

What is Being Addressed in This Document?

EPA is making a revision to the CFR for the purpose of giving the IDNR full regulatory responsibility for EPA-issued PSD permits.

On April 22, 1987, EPA approved Iowa's rules for the Prevention of Significant Deterioration (PSD) of air quality (a permit program for major new and modified sources of air pollution proposing to locate in areas of the state which are achieving the ambient air quality standards). One issue in that rulemaking addressed how the PSD permits previously issued by EPA would be administered. At that time, IDNR determined that it did not have authority to implement the PSD program. EPA approved the Iowa program, which incorporated the federal PSD rules in 40 CFR 52.21, by reference. However, EPA stated in 40 CFR 52.833 that its approval did not extend to sources holding federal PSD permits and EPA retained authority to administer the program for those permits for sources subject to permits previously issued by EPA. IDNR has since reconsidered its authority and has determined that it does have authority to implement EPA permits.

IDNR demonstrated state legal authority to take responsibility for the permits in a letter to EPA Region 7 dated May 23, 2003. IDNR's authority to take responsibility for EPA-issued permits can be found in the Iowa Administrative Code, Section 567, “Environmental Protection Commission”, Chapter 22.4, “Special requirements for major stationary sources located in areas designated attainment or unclassified (PSD).” In the same letter, IDNR demonstrated that resources are available to assume regulatory responsibility for EPA-issued permits. The IDNR Construction Permit Section of the Air Quality Bureau is responsible for reviewing and issuing air construction permits and is fully staffed by permit review engineers. The air dispersion modeling related to construction permits is accomplished by environmental specialists located in the Program Development Section of the Air Quality Bureau. Four ambient air monitoring staff are available for questions and issues related to pre-application or post-construction ambient air monitoring for PSD permits.

A public hearing with regard to this action was held by the state. Two comments were received from industry representatives which supported the action.

With this action, the regulatory text in 52.833 will be revised to reflect that IDNR has been given full regulatory responsibility for EPA-issued PSD permits. The language stating “sources with permits issued by EPA prior to the effective date of the state's rules;” will be deleted.

What Action is EPA Taking?

EPA is approving this revision submitted by Iowa and is revising 40 CFR 52.833 to give the Iowa Department of Natural Resources regulatory responsibility for EPA-issued Prevention of Significant Deterioration permits. IDNR demonstrated legal authority to take responsibility for the permits, and demonstrated that resources are available to accomplish full regulatory responsibility. We do not anticipate any adverse comments. Please note that if EPA receives adverse comment on part of this rule and if that part can be severed from the remainder of the rule, EPA may adopt as final those parts of the rule that are not the subject of an adverse comment.

Statutory Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this action will not have a significant economic impact on a substantial number of small entities under the Regulatory Flexibility Act (5 U.S.C. 601 et seq.). Because this action approves pre-existing requirements under state law and does not impose any additional enforceable duty beyond that required by state law, it does not contain any unfunded mandate or significantly or uniquely affect small governments, as described in the Unfunded Mandates Reform Act of 1995 (Pub. L. 104-4).

This action also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This action also is not subject to Executive Order 13045, “Protection of Children from Environmental Health Risks and Safety Risks” (62 FR 19885, April 23, 1997), because it is not economically significant.

In reviewing state submissions, EPA's role is to approve state choices, provided that they meet the criteria of the CAA. In this context, in the absence of a prior existing requirement for the State to use voluntary consensus standards (VCS), EPA has no authority to disapprove a state submission for failure to use VCS. It would thus be inconsistent with applicable law for EPA, when it reviews a state submission, to use VCS in place of a state submission that otherwise satisfies the provisions of the CAA. Thus, the requirements of section 12(d) of the National Technology Transfer and Advancement Act of 1995 (15 U.S.C. 272 note) do not apply. This action does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register.

A major rule cannot take effect until 60 days after it is published in the Federal Register. This action is not a “major rule” as defined by 5 U.S.C. 804(2).

Under section 307(b)(1) of the Clean Air Act, petitions for judicial review of this action must be filed in the United States Court of Appeals for the appropriate circuit by May 30, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 13, 2006.
James B. Gulliford,
Regional Administrator, Region 7.

Chapter I, title 40 of the Code of Federal Regulations is amended as follows:

PART 52—[AMENDED]

1. The authority citation for part 52 continues to read as follows:

Authority: 42 U.S.C. 7401 et seq.

Subpart Q—Iowa

2. Section 52.833 is revised to read as follows:

§ 52.833 Significant deterioration of air quality.

(a) The requirements of sections 160 through 165 of the Clean Air Act are met, except for sources seeking permits to locate on Indian lands in the state of Iowa; and certain sources affected by the stack height rules described in a letter from Iowa dated April 22, 1987.

(b) Regulations for preventing significant deterioration of air quality. The provisions of § 52.21 except paragraph (a)(1) are hereby incorporated and made a part of the applicable State plan for the State of Iowa for sources wishing to locate on Indian lands; and certain sources as identified in Iowa's April 22, 1987, letter.

[FR Doc. 06-3036 Filed 3-29-06; 8:45 am]

BILLING CODE 6560-50-P